DEPARTMENT OF DEFENSE

Office of the Secretary

[Transmittal No. 21-71]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-71 with attached Policy Justification and Sensitivity of Technology.

Dated: May 25, 2023.
Aaron T. Siegel,
Alternate OSD Federal Register Liaison Officer, Department of Defense.

BILLING CODE 5001-06-P

BILLING CODE 5001-06-C

Transmittal No. 21-71

Notice of Proposed Issuance of Letter of Offer Pursuant to Section 36(b)(1) of the Arms Export Control Act, as amended

(i) Prospective Purchaser: Government of France

(ii) Total Estimated Value:

Major Defense Equipment * | $47 million
Other | $41 million
TOTAL | $88 million

(iii) Description and Quantity or Quantities of Articles or Services under Consideration for Purchase: Foreign Military Sales (FMS) case FR-D-DAJ, was below congressional notification threshold at $71 million ($24.2 million in MDE) and included five (5) Communications Intelligence Sensor Pod Suites (MDE). The Government of France has requested the case be amended to include up to eight (8) Communications Intelligence Sensor Pod Suites (MDE) and additional non-MDE services. This amendment will push the current case above the MDE notification threshold and thus requires notification of the entire case.

Major Defense Equipment (MDE):

Eight (8) Communications Intelligence Sensor Pod Suites

Non-MDE:

Also included is ground handling equipment; spares and repair parts; consumables and accessories; secure communications and cryptographic devices; software and support services; publications and technical documentation; U.S. Government and contractor engineering, technical and logistics support services; and other related elements of logistical and program support.

(iv) Military Department: Air Force (FR-D-DAJ)

(v) Prior Related Cases, if any: FR-D-STE, FR-D-SAC, and FR-D-SAD

(vi) Sales Commission, Fee, etc., Paid, Offered, or Agreed to be Paid: None

(vii) Sensitivity of Technology Contained in the Defense Article or Defense Services Proposed to be Sold: See Attached Annex

(viii) Date Report Delivered to Congress: January 14, 2022

* As defined in Section 47(6) of the Arms Export Control Act.

POLICY JUSTIFICATION

France—MQ-9 Communications Intelligence Sensor Pod Suites

The Government of France has requested to buy up to eight (8) Communications Intelligence Sensor Pod Suites, that will be added to a previously implemented case. The original FMS case and amendments, valued at $71 million, included five (5) Communications Intelligence Sensor Pod Suites. Therefore, this notification is for a total of eight (8) Communications Intelligence Sensor Pod Suites. Also included is ground handling equipment; spares and repair parts; consumables and accessories; secure communications and cryptographic devices; software and support services; publications and technical documentation; U.S. Government and contractor engineering, technical and logistics support services; and other related elements of logistical and program support. The estimated total cost is $88 million.

This proposed sale will support the foreign policy goals and national security objectives of the United States by helping to improve the security of a NATO Ally that is an important force for political stability and economic progress in Europe.

The proposed sale will improve France's capability to meet current and future threats by ensuring the operational readiness of the French Air and Space Force. France's MQ-9 aircraft fleet provides Intelligence, Surveillance, and Reconnaissance that supports coalition operations. France will have no difficulty absorbing this equipment into its armed forces.

The proposed sale of this equipment and support will not alter the basic military balance in the region.

The principal contractor will be BAE Systems, York, PA. General Atomics Aeronautical Systems, San Diego, CA is on contract for integration work only. There are no known offset agreements proposed in connection with this potential sale.

Implementation of this proposed sale may require the assignment of additional U.S. Government or contractor representatives to France.

There will be no adverse impact on U.S. defense readiness as a result of this proposed sale.

Transmittal No. 21-71

Notice of Proposed Issuance of Letter of Offer Pursuant to Section 36(b)(1) of the Arms Export Control Act

Annex

Item No. vii

(vii) Sensitivity of Technology:

1. The MQ-9 Communications Intelligence (COMINT) Sensor Pod Suites are for the MQ-9 aircraft that France previously acquired. The COMINT Sensor Pod Suite is an additional payload sensor which provides intelligence, data collection, and analysis capabilities. The pods will provide France's MQ-9 program with the equipment necessary to support capabilities that France is already employing.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that France can provide substantially the same degree of protection for the sensitive technology being released as the U.S. Government. This sale is necessary in furtherance of the U.S. foreign policy and national security objectives outlined in the Policy Justification.

5. All defense articles and services listed in this transmittal have been authorized for release and export to the Government of France.

[FR Doc. 2023-11583 Filed 5-31-23; 8:45 am]

BILLING CODE 5001-06-P